DEPARTMENT OF COMMERCE

National Oceanic and Atmospheric Administration

50 CFR Part 660

[I.D. 101006A]

Pacific Fishery Management Council; Public Meetings and Hearings

AGENCY: National Marine Fisheries Service (NMFS), National Oceanic and Atmospheric Administration (NOAA), Commerce.

ACTION: Public hearings.

SUMMARY: The Pacific Fishery Management Council (Council) announces the dates and locations of public hearings to solicit comments on the proposed 15th amendment to the Pacific Coast Salmon Plan to allow de minimis ocean fishing impacts on Klamath River fall Chinook during years that would otherwise be closed to ocean salmon fishing.

DATES: Written comments on the salmon management options must be received by Tuesday, November 7, 2006, at 4:30 p.m., Pacific Time.

ADDRESSES: Written comments should be sent to Mr. Donald Hansen, Chairman, Pacific Fishery Management Council, 7700 NE Ambassador Place, Suite 101, Portland, OR 97220-1384, telephone: 503-820-2280 (voice) or 503-820-2299 (fax). For specific hearing locations, see SUPPLEMENTARY INFORMATION.

FOR FURTHER INFORMATION CONTACT: Mr. Chuck Tracy, telephone: 503-820-2280.

SUPPLEMENTARY INFORMATION:

November 1-2, 2006: Public hearings will be held to receive comments on the proposed de minimis fishing alternatives adopted by the Council at its September 2006 meeting. All public hearings begin at 7 p.m. on the dates and at the locations specified here.

November 1, 2006: Old Mill Casino, Cedar Room, 3201 Tremont Avenue (Hwy 101), North Bend, OR 97459 541-756-8800.

November 2, 2006: Hilton Sonoma Wine Country, Nagasawa A Room, 3555 Round Barn Boulevard, Santa Rosa, CA 95403, 707-523-7555.

Special Accommodations

The meetings are physically accessible to people with disabilities. Requests for sign language interpretation or other auxiliary aids should be directed to Ms. Carolyn Porter at 503-820-2280 (voice), or 503-820-2299 (fax) at least five days prior to the meeting date.

Dated: October 11, 2006.
James P. Burgess,
Acting Director, Office Of Sustainable Fisheries, National Marine Fisheries Service.

[FR Doc. E6-17241 Filed 10-16-06; 8:45 am]

BILLING CODE 3510-22-S